DEPARTMENT OF COMMERCE

National Oceanic and Atmospheric Administration

50 CFR Part 635

[I.D. 082902A]

Atlantic Highly Migratory Species; Swordfish Quota Adjustment

AGENCY: National Marine Fisheries Service (NMFS), National Oceanic and Atmospheric Administration, Commerce.

ACTION: Adjustment of annual catch quotas; correction.

SUMMARY: NMFS is correcting a document published March 24, 2003, concerning the North Atlantic swordfish quota for the 2002 fishing year. A paragraph containing the total quota amount for the fishing year was inadvertently omitted. This document provides the total adjusted swordfish quota and how it is allocated for the 2002 fishing year.

DATES: Effective April 3, 2003.

FOR FURTHER INFORMATION CONTACT: Tyson Kade at 301-713-2347; Fax: 301-713-1917.

SUPPLEMENTARY INFORMATION:

Correction

In the Federal Register issue of March 24, 2003, on page 14168, in the first column, following the second paragraph and before the South Atlantic Swordfish heading, add the following paragraph:

“The underharvest from the 2000 and 2001 fishing years, 1,144.5 mt dw, can be added to the base 2002 fishery quota of 2,219.0 mt dw for an adjusted North Atlantic swordfish quota of 3,363.5 mt dw. The reserve category is allocated 139.1 mt dw, the incidental category is allocated 300 mt dw, and the remaining quota is divided into two equal semiannual quotas of 1,462.2 mt dw for the periods of June 1, 2002, through November 30, 2002, and December 1, 2002, through May 31, 2003. In 2002, the dead discard allowance is 120 mt dw.”

Classification

This action is taken under 50 CFR 635.27(c)(3)(ii) and (c)(3)(iii) and is exempt from review under Executive Order 12866.

Authority: 16 U.S.C. 971 et seq. and 1801 et seq.

Dated: March 28, 2003.
Richard W. Surdi,
Acting Director, Office of Sustainable Fisheries, National Marine Fisheries Service.

[FR Doc. 03-8120 Filed 4-2-03; 8:45 am]

BILLING CODE 3510-22-S